ENVIRONMENTAL PROTECTION AGENCY

[ER-FRL-6621-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated May 18, 2001 (97 FR 27647).

Draft EISs

ERP No. D-FHW-D40313-MD Rating EC2, MD-210 (Indian Head Highway) Multi-Modal Study, MD-210 Improvements between I-95/I-495 (Capitol Beltway) and MD-228 Funding and US COE Section 404 Permit Issuance, Prince George's County, MD.

Summary: EPA is concerned with the potential impacts to streams, Chesapeake Bay Critical areas, historic resources, residential, business/commercial, and church/school properties. EPA has also requested additional information regarding the environmental justice evaluation. In general, EPA supports the concept of improving the functioning of an existing transportation facility through the addition of grade-separated interchanges, overpasses, and High Occupancy Vehicle (HOV) lanes.

ERP No. D-FHW-E40786-FL Rating EC2, I-4 Corridor Improvements, Upgrading the Safety and Mobility of the existing I-4, from west of FL-528 (Bee Line Expressway) interchange in Orange County to east of FL-472 interchange in Volusia County, Funding, COE Section 10 and 404 Permits, NPDES Permit, Orange, Seminole, and Volusia Counties, FL.

Summary: EPA is concerned that mobility will not be improved unless the project is integrated better with plans for mass transit and, accordingly, requested additional information. The assessment of cumulative impacts and mitigation both require additional analysis. EPA is also concerned about potential impacts to ground water resources from proposed storm water ponds.

ERP No. D-FHW-E40787-AL Rating EC2, Memphis to Atlanta Corridor Study (DPS-A002(002), Proposal to Build Highway from the Mississippi/Alabama State Line to Interstate 65, Funding and COE Section 404 Permit, Colbert, Franklin, Lauderdale, Lawrence, Limestone and Morgan Counties, AL.

Summary: EPA expressed concern for and additional information regarding: wetlands mitigation; secondary and cumulative impacts to aquatic resources; noise; and impacts to minority and low-income individuals.

ERP No. D-FHW-E40788-AL Rating EO2, Memphis to Atlanta Corridor, To Construct from I65 in North Central Alabama Eastward to the Georgia State Line, COE Section 404, US Coast Guard and NPDES Permits, Limestone, Morgan, Madison, Jackson, Marshall, Dekalb and Cherokee Counties, AL.

Summary: EPA expressed objections to alternatives 3 and 4 because of extensive potential impacts to wetlands and numerous stream crossings. EPA expressed concerns for the other four alternatives and requested additional information regarding wetlands; stream crossings; and secondary and cumulative impacts.

ERP No. D-FHW-H40172-MO Rating LO, U.S. Route 67 Corridor Project, Improvements from South of Fredericktown to the South of Neelyville, Madison, Wayne and Butler Counties, MO.

Summary: EPA lacks objections to the project as described and only offered comments to assist the lead agency in enhancing the final EIS.

ERP No. D-NRC-E06021-FL Rating EC2, Generic EIS—License Renewal of Nuclear Power Plants, Supplement 5 Turkey Point Units 3 and 4 (NUREG-1437), Operating License Renewal, Biscayne Bay, Miami-Dade County, FL.

Summary: EPA has environmental concerns about the project, and more information is needed to fully assess the impacts. In particular, clarification of impacts from cooling ponds, and information on compliance with 40 CFR part 112 warrant further discussion in the Final GSEIS.

ERP No. DA-NOA-E91007-00 Rating LO, South Atlantic Region Shrimp Fishery Management Plan, Amendment 5, Additional Information concerning Rock Shrimp in the Exclusive Economic Zone (EEZ), NC, SC, FL and GA.

Summary: EPA had no objections to proposed Amendment 5. EPA believes that the amendment will benefit the rock shrimp fishery and generally agrees with the proposed management actions and/or an action option. EPA requested that the NMFS/South Atlantic Fisheries Management Council ensure that the managed fishery yield (OY/MSY) be optimal from an ecological aspect.

ERP No. DS-FHW-E40780-NC Rating EC2, US-1 Transportation Improvements, Updated Information, From Sandhill Road (NC 1971) to just North of Fox Road (NC 1606) to Marston Road (NC 1001) Associated with this Extension, Funding, and COE Section 404 Permit, City of Rockingham, Richmond County, NC.

Summary: Analysis of the NC-177 Alternative addresses EPA's earlier concerns. Additional work is needed to define the location and configuration of interchanges in order to minimize wetland impacts.

Final EISs

ERP No. F-BPA-L08054-OR, Condon Wind Project, To Execute One or More Power Purchase and Transmission Services Agreements To Acquire and Transmit up to the Full Electrical Output, NPDES Permits and Right-of-Way Permit for Public Land, Gilliam County, OR.

Summary: No formal comment letter was sent to the preparing agency.

ERP No. F-FHW-D40268-VA, VA-37 Highway Transportation Improvement, Construction from VA-37/I-81/US-11 (south) to VA-37/US-11 (north), Funding and COE Section 404 Permit, City of Winchester, Frederick County, VA.

Summary: While many of EPA's comments on an earlier draft were incorporated, EPA continues to express concerns regarding potential secondary and cumulative impacts from the preferred alternative to the natural and cultural environment including two National Register Historic Districts and one Civil War battlefield.

ERP No. F-FHW-F40384-MI, Boardman River Crossing Mobility Study, Improve the East-West Mobility across the Boardman River, COE Permit, Traverse City and Grand Traverse County, MI.

Summary: EPA concurs with the selected alternative provided that all feasible mitigation measures are implemented. EPA retains concerns regarding storm water, habitat, and wetlands.

ERP No. F-FHW-F40391-IL, Illinois Route 3 (FAP-14) Relocation, Improved Transportation from Sauget to Venice, Funding, NPDES Permit and COE Section 404 Permit, Madison and St. Clair Counties, IL.

Summary: EPA's concerns at the draft stage have been adequately addressed in the Final EIS.

ERP No. F-FHW-F40463-IN, IN-145 New Road Construction, Funding, IN-37 and the existing I-64 Interchange near St. Croix in Perry County to the east junction of IN-64 and IN-145 in Crawford County, IN.

Summary: EPA retains its environmental objections because the FEIS: (1) does not present adequate substantiation for the stated Purpose and Need, (2) does not provide a full and equal evaluation of Alternative 4, (3) does not provide adequate mitigation for the loss of 61.21 acres of forested upland habitat, and (4) lacks a wetland mitigation plan.

ERP No. F-FHW-K40230-CA, CA-58 Transportation Corridor, Route Adoption and Purchases Right-of-Way Acquisition Project, between CA-99 in the Bakerfield Metropolitan Area and Interstate 5 in Kern County, Funding and COE Section 404 Permit, Kern County, CA.

Summary: EPA's review found that, while the majority of the issues raised earlier by EPA were addressed in the FEIS, EPA has continuing concerns regarding the indirect impacts and cumulative impacts analyses. EPA recommended that EPA, FHWA, and Caltrans work closely together on the development of these analyses for Tier II of the project.

ERP No. F-FTA-K40209-CA, Mid-Coast Corridor Mass Transit Improvement Project, Funding, San Diego County, CA.

Summary: EPA's review found that the document adequately addresses the issues raised in our previous comment letter.

ERP No. F-TVA-E65057-00, Guntersville Reservoir Land Management Plan, Implementation, Proposal to Update a 1983 Land Allocation Plan, Jackson and Marshall Counties, AL and Marion County, TN.

Summary: EPA is concerned that some of the proposed development projects allowed by TVA's proposed Blended Alternative (B3) could impact Guntersville Reservoir and would result in less conservation areas.

Dated: September 18, 2001.
Joseph C. Montgomery,
Director, NEPA Compliance Division, Office of Federal Activities.

[FR Doc. 01-23642 Filed 9-20-01; 8:45 am]

BILLING CODE 6560-50-P